DEPARTMENT OF TRANSPORTATION

Federal Highway Administration

Environmental Impact Statement; Hernando and Citrus Counties, FL

AGENCY: Federal Highway Administration (FHWA), DOT.

ACTION: Notice of Cancellation of Notice Intent.

SUMMARY: The FHWA is issuing this notice of cancellation to advise the public that we are no longer lead Federal Agency for preparation of an Environmental Impact Statement (EIS) for a proposed highway project in Hernando and Citrus Counties, Florida. This is formal cancellation of the Notice of Intent that was published in the Federal Register on June 11, 2002.

FOR FURTHER INFORMATION CONTACT: George Hadley, Environmental Programs Coordinator, Federal Highway Administration, 545 John Knox Road, Suite 200, Tallahassee, Florida 32303, Telephone 850-942-9650 extension 3011.

SUPPLEMENTARY INFORMATION: The notice of intent to prepare an EIS for a proposal to extend the Suncoast Parkway (SR 589) from its present terminus at U.S. 98 in Hernando County to U.S. 19 south of the Citrus-Levy County line, a distance of approximately 30 miles is rescinded.

(Catalog of Federal Domestic Assistance Program Number 20.205, Highway Research, Planning and Construction. The regulations implementing Executive Order 12372 regarding inter-governmental consultation on Federal programs and activities apply to this program.)

Issued On: March 3, 2008.
George B. Hadley,
Environmental Programs Coordinator, Tallahassee, Florida.

[FR Doc. E8-4792 Filed 3-10-08; 8:45 am]

BILLING CODE 4910-22-P